DEPARTMENT OF ENERGY

Federal Energy Regulatory Commission

[Docket No. CP26-25-000]

Columbia Gulf Transmission, LLC; Notice of Virtual Scoping Session for the Proposed Maysville Project

On January 7, 2026, the staff of the Federal Energy Regulatory Commission (FERC or Commission) issued a Notice of Scoping Period Requesting Comments on Environmental Issues for the Proposed Maysville Project, and Notice of Public Scoping Sessions. The notice described the project facilities (including a facilities map) and announced the ongoing scoping period that ends on February 6, 2026. However, on January 23, 2026, the Commission cancelled the public scoping sessions due to a winter storm and stated a separate notice would be issued to indicate the dates and times for any rescheduled scoping session.

In an effort to gather public comments that would have been received at the recently cancelled scoping sessions, this notice invites you to attend a virtual public scoping session Commission staff will conduct by telephone for the proposed Maysville Project (Project). With this notice the Commission is also extending the scoping period for the project, which will now close on February 23, 2026. This virtual scoping session will be held as follows:

Maysville Project

Public Scoping Session

Date, Time, and Call-In Information

Thursday, February 19, 2026

6:00 p.m. (EST)

Call in number: 1-866-652-5200

Ask to be joined into the Federal Energy Regulatory Commission (FERC) call

Note that the scoping meeting will start at 6:00 p.m. (EST) and will terminate once all participants wishing to comment have had the opportunity to do so, or at 8:00 p.m. (EST), whichever comes first. The primary goal of this scoping session is to have you identify the specific environmental issues and concerns that should be considered in the environmental document. Individual oral comments will be taken one at a time with a court reporter present on the line. This format is designed to receive the maximum amount of oral comments, in a convenient way during the timeframe allotted.

There will not be a formal presentation by Commission staff when the session opens. You may call at any time after the session begins, at which time you will be placed on hold. Calls will be answered in the order they are received. Once answered, you will have the opportunity to provide your comment directly to a court reporter with FERC staff or representative present on the line. A time limit of 5 minutes may be implemented for each commentor. Please note that your hold times may vary based on the number of callers at any given time.

Your oral comments will be recorded by the court reporter and become part of the public record for this proceeding. Transcripts of all comments received during the scoping session will be publicly available on FERC's eLibrary system. It is important to note that the Commission provides equal consideration to all comments received, whether filed in written form or provided orally at a virtual scoping session.

As a reminder, the Commission encourages electronic filing of comments and has staff available to assist you at (866) 208-3676, TTY (202) 502-8659, or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP26-25-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852.

Additional Information

Additional information about the project is available from the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

This notice is being sent to the Commission's current environmental mailing list for the Project. Public sessions or site visits will be posted on the Commission's calendar located at https://www.ferc.gov/news-events/events along with other related information.

(Authority: 18 CFR 2.1)

Dated: February 5, 2026.
Carlos D. Clay,
Deputy Secretary.

[FR Doc. 2026-02607 Filed 2-9-26; 8:45 am]

BILLING CODE 6717-01-P